SMALL BUSINESS ADMINISTRATION

[Disaster Declaration #16008 and #16009; Kansas Disaster Number KS-00124]

Presidential Declaration Amendment of a Major Disaster for Public Assistance Only for the State of Kansas

AGENCY: U.S. Small Business Administration.

ACTION: Amendment 1.

SUMMARY: This is an amendment of the Presidential declaration of a major disaster for Public Assistance Only for the State of Kansas (FEMA-4449-DR), dated 06/20/2019.

Incident: Severe Storms, Straight-line Winds, Tornadoes, Flooding, Landslides, and Mudslides.

Incident Period: 04/28/2019 through 07/12/2019.

DATES: Issued on 07/25/2019.

Physical Loan Application Deadline Date: 08/19/2019.

Economic Injury (EIDL) Loan Application Deadline Date: 03/20/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of KANSAS, dated 06/20/2019, is hereby amended to establish the incident period for this disaster as beginning 04/28/2019 and continuing through 07/12/2019.

All other information in the original declaration remains unchanged.

(Catalog of Federal Domestic Assistance Number 59008)

James Rivera,
Associate Administrator for Disaster Assistance.

[FR Doc. 2019-16507 Filed 8-1-19; 8:45 am]

BILLING CODE 8026-03-P